DEPARTMENT OF THE TREASURY

Office of Foreign Assets Control

[Case IDs VENEZUELA-EO13850-15909, VENEZUELA-EO13850-15911, VENEZUELA-EO13850-15919, VENEZUELA-EO13850-15914]

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On April 12, 2019, OFAC determined that the property and interests in property subject to U.S. jurisdiction of the following persons and the following vessels subject to U.S. jurisdiction are blocked under the relevant sanctions authorities listed below.

Entities

1. LIMA SHIPPING CORPORATION (a.k.a. LIMA SHIPPING CORP), 80 Broad Street, Monrovia, Liberia; Identification Number IMO 4063640 [VENEZUELA-EO13850].

Designated pursuant to section 1(a)(i) of Executive Order 13850 of November 1, 2018, “Blocking Property of Additional Persons Contributing to the Situation in Venezuela,” as amended by Executive Order 13857, “Taking Additional Steps to Address the National Emergency with Respect to Venezuela,” of January 25, 2019 (“E.O. 13850”), for operating in the oil sector of the Venezuelan economy.

2. LARGE RANGE LIMITED, 80 Broad Street, Monrovia, Liberia; Identification Number IMO 6002286 [VENEZUELA-EO13850].

Designated pursuant to section 1(a)(i) of E.O. 13850 for operating in the oil sector of the Venezuelan economy.

3. PB TANKERS S.P.A. (a.k.a. PB TANKERS SPA), Via Principe di Belmonte 55, Palermo PA 90139, Italy; Via Jacopo Peri 1, Rome RM 00198, Italy; website www.pbtankers.com; Email Address info@pbtankers.com; Identification Number IMO 5161787 [VENEZUELA-EO13850].

Designated pursuant to section 1(a)(i) of E.O. 13850 for operating in the oil sector of the Venezuelan economy.

4. JENNIFER NAVIGATION LIMITED (a.k.a. JENNIFER NAVIGATION LTD.), 80 Broad Street, Monrovia, Liberia; Identification Number IMO 4098018 [VENEZUELA-EO13850].

Designated pursuant to section 1(a)(i) of E.O. 13850 for operating in the oil sector of the Venezuelan economy.

Vessels

1. NEW HELLAS Crude Oil Tanker Greece flag; Vessel Registration Identification IMO 9221891 (vessel) [VENEZUELA-EO13850] (Linked To: LIMA SHIPPING CORPORATION).

Identified pursuant to E.O. 13850 as property in which LIMA SHIPPING CORPORATION, a person whose property and interested in property are blocked pursuant to E.O. 13850, has an interest.

2. S-TROTTER Oil Products Tanker Panama flag; Vessel Registration Identification IMO 9216547 (vessel) [VENEZUELA-EO13850] (Linked To: LARGE RANGE LIMITED).

Identified pursuant to E.O. 13850 as property in which LARGE RANGE LIMITED, a person whose property and interested in property are blocked pursuant to E.O. 13850, has an interest.

3. IRON POINT Chemical/Oil Tanker Malta flag; Vessel Registration Identification IMO 9388209 (vessel) [VENEZUELA-EO13850] (Linked To: PB TANKERS S.P.A.).

Identified pursuant to E.O. 13850 as property in which PB TANKERS S.P.A., a person whose property and interested in property are blocked pursuant to E.O. 13850, has an interest.

4. ALBA MARINA Floating Storage Tanker Italy flag; Vessel Registration Identification IMO 9151838 (vessel) [VENEZUELA-EO13850] (Linked To: PB TANKERS S.P.A.).

Identified pursuant to E.O. 13850 as property in which PB TANKERS S.P.A., a person whose property and interested in property are blocked pursuant to E.O. 13850, has an interest.

5. GOLD POINT Chemical/Oil Tanker Malta flag; Vessel Registration Identification IMO 9506693 (vessel) [VENEZUELA-EO13850] (Linked To: PB TANKERS S.P.A.).

Identified pursuant to E.O. 13850 as property in which PB TANKERS S.P.A., a person whose property and interested in property are blocked pursuant to E.O. 13850, has an interest.

6. ICE POINT Chemical/Oil Tanker Italy flag; Vessel Registration Identification IMO 9379337 (vessel) [VENEZUELA-EO13850] (Linked To: PB TANKERS S.P.A.).

Identified pursuant to E.O. 13850 as property in which PB TANKERS S.P.A., a person whose property and interested in property are blocked pursuant to E.O. 13850, has an interest.

7. INDIAN POINT Chemical/Oil Tanker Malta flag; Vessel Registration Identification IMO 9379325 (vessel) [VENEZUELA-EO13850] (Linked To: PB TANKERS S.P.A.).

Identified pursuant to E.O. 13850 as property in which PB TANKERS S.P.A., a person whose property and interested in property are blocked pursuant to E.O. 13850, has an interest.

8. SILVER POINT Chemical/Oil Tanker Malta flag; Vessel Registration Identification IMO 9510462 (vessel) [VENEZUELA-EO13850] (Linked To: PB TANKERS S.P.A.).

Identified pursuant to E.O. 13850 as property in which PB TANKERS S.P.A., a person whose property and interested in property are blocked pursuant to E.O. 13850, has an interest.

9. NEDAS Crude Oil Tanker Greece flag; Vessel Registration Identification IMO 9289166 (vessel) [VENEZUELA-EO13850] (Linked To: JENNIFER NAVIGATION LIMITED).

Identified pursuant to E.O. 13850 as property in which JENNIFER NAVIGATION LIMITED, a person whose property and interested in property are blocked pursuant to E.O. 13850, has an interest.

Dated: May 15, 2019.
Andrea Gacki,
Director, Office of Foreign Assets Control.

[FR Doc. 2019-10489 Filed 5-20-19; 8:45 am]

BILLING CODE 4810-AL-P